DEPARTMENT OF HEALTH AND HUMAN SERVICES

Administration for Community Living

Agency Information Collection Activities; Submission for OMB Review; Public Comment Request; New Data Collection; National Center on Law and Elder Rights (NCLER)

AGENCY: Administration for Community Living (ACL), HHS.

ACTION: Notice.

SUMMARY: The Administration for Community Living is announcing that the proposed collection of information listed above has been submitted to the Office of Management and Budget (OMB) for review and clearance as required under section 506(c)(2)(A) of the Paperwork Reduction Act of 1995. This 30-Day notice collects comments on the information collection requirements related to ACL's National Center on Law and Elder Rights.

DATES: Submit written comments on the collection of information by August 24, 2018.

ADDRESSES: Submit written comments on the collection of information by:

(a) Email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Omar Valverde at omar.valverde@acl.hhs.gov or 202-795-7460.

SUPPLEMENTARY INFORMATION: Under the PRA (44 U.S.C. 3501-3520), Federal agencies must obtain approval from the Office of Management and Budget (OMB) for each collection of information they conduct or sponsor. The proposed collection of information represents new information requested from aging/disability networks to fulfill requirements regarding the provision of services and overall performance of ACL legal assistance programs.

ACL contracts with a national legal assistance resource center, the National Center on Law and Elder Rights, to provide the required services. Through the contract, ACL provides aging, disability, and related legal professionals with training, case consultations and technical assistance for demonstration projects regarding contractually identified priority legal topics.

The purpose of the information requested is for ACL to ensure that the resource center creates and prioritizes the training, case consultations and technical assistance resources it was contracted to provide and to ensure that the center targets the contractually designated aging network practitioners about priority subject matters. This approach enables ACL to make data-informed decisions about the deployment of its resource center assets. These data are necessary for ACL to evaluate contractual compliance with established performance indicators. These metrics include quantifiable increases in uptake by stakeholders of training, case consultation and technical assistance, and measures of satisfaction with and perceived benefit from these services. For example, the metrics measure successful problem resolution as a result of the services provided and quantifiable data on fulfillment of requests for training, technical assistance, and consultation related to the contractually designated legal and systems development topic areas.

The information requested by ACL from legal and aging/disability professionals falls into the following areas: (1) Requests for training, case consultation, and technical assistance through an online, secure Uniform Resource Support Request Tool; (2) general requests for Legal Training (including the volume of Webinar registrations); (3) Case Consultation and Technical Assistance; and (4) information about satisfaction and use of the services and support received in order to enable ACL to measure performance outcomes.

Comments in Response to the 60-Day Federal Register Notice

As required by 5 CFR 1320.8(d), a 60-day notice was published in the Federal Register on December 5, 2017 (Volume 82, Number 232, pp. 57458-57460). One email was received expressing support for the data collection as proposed. No modifications were made to the proposed data collection elements and associated data collection instruments.

Estimated Annualized Burden Hours

The total estimated burden is 460.78 hours per year for individuals requesting and/or receiving resource support through NCLER. This figure is based on ACL field testing of 8 providers working within aging/disability/legal networks who measured the time required to fully submit information by answering the required questions using standardized forms:

Respondent/data collection activity | Number of respondents | Minutes per response | Annual burden hours
Resource Support Requests | 80 | 1 min 54 sec | 2.53
Legal Training, Case Consultation, Technical Assistance Requests | 14,000 | 1 min 42 sec | 397
Outcome Measurement | 3,500 | 1 min 3 sec | 61.25
Total | 17,580 | 4 min 39 sec | 460.78

Dated: July 12, 2018.
Mary Lazare,
Principal Deputy Administrator.

[FR Doc. 2018-15906 Filed 7-24-18; 8:45 am]

BILLING CODE 4154-01-P